DEPARTMENT OF TRANSPORTATION

Surface Transportation Board

[Docket No. FD 35775]

Union Pacific Railroad Company—Trackage Rights Exemption—CSX Transportation, Inc.

CSX Transportation, Inc. (CSXT), pursuant to a written agreement dated September 4, 2013, has agreed to grant overhead trackage rights to Union Pacific Railroad Company (UP) on the Elsdon Subdivision, between milepost 19.3 at Blue Island, Ill. and milepost 31.07 at Munster, Ind., a distance of approximately 11.77 miles.¹

¹ The overhead trackage rights covered by this Notice include the right for UP to enter and exit the subject trackage at: (1) CSXT's connection with GTW at or near milepost 31.07 (Munster) on the Elsdon Subdivision in Munster, Ind.; (2) CSXT's northeast connection with UP at or near milepost 25.20 (Thornton Junction) on the Elsdon Subdivision in Thornton, Ill.; (3) CSXT's connection with Grand Trunk Western Railroad Company (GTW) at or near milepost 23.2 (CN Junction) on the Elsdon Subdivision in Harvey, Ill.; (4) CSXT's connection with the Indiana Harbor Belt Railroad Company at or near milepost 19.3 (B.I. Junction) on the Elsdon Subdivision in Blue Island, Ill.; and (5) any other existing or new location(s) that the parties may mutually agree upon.

A redacted trackage rights agreement between UP and CSXT was filed with the notice of exemption. An unredacted version was filed under seal along with a motion for protective order, which will be addressed in a separate decision.

The transaction is scheduled to be consummated on or after November 16, 2013, the effective date of the exemption (30 days after the exemption was filed).

The purpose of the transaction is to permit UP to continue to move traffic for interchange with GTW and its affiliated railroads on a permanent basis, following the March 10, 2013 acquisition by CSXT of an operating easement over the Elsdon Subdivision from GTW.²

² See CSX Transp. Inc.—Acquis. Of Operating Easement—Grand Trunk W. R.R., FD 35522 (STB served Feb. 8, 2013).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980). This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by November 8, 2013 (at least 7 days before the exemption becomes effective).

An original and 10 copies of all pleadings, referring to Docket No. FD 35775, must be filed with the Surface Transportation Board, 395 E Street SW., Washington, DC 20423-0001. In addition, a copy of each pleading must be served on Jeremy Berman, Union Pacific Railroad Company, 1400 Douglas Street, STOP 1580, Omaha, NE 68179.

Board decisions and notices are available on our Web site at “WWW.STB.DOT.GOV.”

Decided: October 29, 2013.
By the Board, Rachel D. Campbell, Director, Office of Proceedings.
Jeffrey Herzig,
Clearance Clerk.

[FR Doc. 2013-26050 Filed 10-31-13; 8:45 am]

BILLING CODE 4915-01-P